DEPARTMENT OF ENERGY

Federal Energy Regulatory Commission

[Docket No. EL12-46-000]

Puget Sound Energy, Inc.; Notice of Initiation of Proceeding and Refund Effective Date

On March 30, 2012, the Commission issued an order that initiated a proceeding in Docket No. EL12-46-000, pursuant to section 206 of the Federal Power Act (FPA), 16 U.S.C. 824e (2006), to determine the justness and reasonableness of the proposed rate reduction by Puget Sound Energy, Inc. Puget Sound Energy, Inc., 138 FERC ¶ 61,236 (2012).

The refund effective date in Docket No. EL12-46-000, established pursuant to section 206(b) of the FPA, will be the date of publication of this notice in the Federal Register.

Dated: March 30, 2012.
Nathaniel J. Davis, Sr.,
Deputy Secretary.

[FR Doc. 2012-8308 Filed 4-5-12; 8:45 am]

BILLING CODE 6717-01-P